FEDERAL COMMUNICATIONS COMMISSION

47 CFR Part 1

Practice and Procedure

CFR Correction

This rule is being published by the Office of the Federal Register to correct an editorial or technical error that appeared in the most recent annual revision of the Code of Federal Regulations.

In Title 47 of the Code of Federal Regulations, Parts 0 to 19, revised as of October 1, 2024, in section 1.7006, remove paragraphs (f)(1)(i)(A) through (L).

[FR Doc. 2025-10411 Filed 6-5-25; 8:45 am]

BILLING CODE 0099-10-P